DEPARTMENT OF COMMERCE

Foreign-Trade Zones Board

Foreign-Trade Zone 126—Reno, NV; Site Renumbering Notice

Foreign-Trade Zone 126 was approved by the Foreign-Trade Zones Board on April 4, 1986 (Board Order 328, 51 FR 12904, 4/16/86), and expanded on February 25, 1997 (Board Order 872, 62 FR 10520, 3/7/97), on December 15, 1999 (Board Order 1066, 64 FR 72642, 12/28/99), and on March 12, 2007 (Board Order 1506, 72 FR 13080, 3/20/2007).

FTZ 126 currently consists of 13 “Sites” totaling some 1,296 acres in the Reno, Nevada area. The current update does not alter either the physical boundaries or the time limits that have previously been approved, but instead involves an administrative renumbering of the existing sites 1, 3 and 6 to separate unrelated, non-contiguous sites for record-keeping purposes.

Under this revision, the site list for FTZ 126 will be as follows: Site 1 (13.9 acres)—located at 728 Spice Island Drive, Sparks; Site 2 (9 acres)—located at 450-475 Lillard Drive, Sparks; Site 3 (26 acres)—3 parcels located at 205 Parr Boulevard (10 acres), 365 Parr Circle (9 acres), and 345 Parr Circle (7 acres); Site 4 (200 acres, sunset 3/31/2012)—within the 5,000-acre Crossroads Commerce Center, Nevada Pacific Parkway and East Newlands Drive, Fernley (Lyon County); Site 5 (20 acres, sunset 3/31/2012)—within the 110-acre Fernley Industrial Park, located at Lyon Drive and Industrial Drive, Fernley; Site 6 (622 acres, 2 parcels, sunset 3/31/2012)—located at the Tahoe Reno Industrial Center southwest of Denmark and USA Parkway, Patrick (Storey County); Site 7 (38 acres, 2 parcels, sunset 3/31/2012)—at the Reno-Stead Airport located at 14551 Industry Circle (33 acres) and 4895 Texas Avenue (5 acres) in Reno (Washoe County); Site 8 (53 acres, 4 parcels, sunset 3/31/2012)—Sage Point Business Park located on or near Lear Boulevard at Military Road, Reno; Site 9 (25 acres, sunset 3/31/2012)—consists of three parcels within the Dermody Business Park located at 5360 Capital Court and 1312 and 1316 Capital Boulevard, Reno; Site 10 (10 acres, 2 parcels, sunset 3/31/2012)—within the 180-acre Dermody Aircenter located at 4879 Aircenter Circle (3 acres) and 4750 Longley Lane (7 acres), Reno; Site 11 (18 acres, sunset 3/31/2012)—located at 45 Vista Boulevard, Sparks; Site 12 (100 acres, 6 parcels, sunset 3/31/2012)—South Meadows Business Park located at 1150, 1160, 1170, 1175, 1190 and 1195 Trademark Drive, Reno; Site 13 (10 acres, sunset 3/31/2012)—within the Reno-Tahoe International Airport, 700 South Rock Boulevard, Reno; Site 14 (0.4 acres)—located at 1095 Spice Island Drive, Sparks; Site 15 (0.7 acres)—located at 1415 Greg Street, Sparks; Site 16 (4 acres)—800 Stillwell Road, Reno; and, Site 17 (146 acres, 5 parcels, sunset 3/31/2012)—at Patrick Business Park located on Waltham Way, Patrick (Storey County).

For further information, contact Christopher Kemp at Christopher.Kemp@trade.gov or (202) 482-0862.

Dated: April 7, 2010.
Andrew McGilvray,
Executive Secretary.

[FR Doc. 2010-8553 Filed 4-13-10; 8:45 am]

BILLING CODE P